U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission. The Commission is mandated by Congress to investigate, assess, and report to Congress annually on “the national security implications of the economic relationship between the United States and the People's Republic of China.” Pursuant to this mandate, the Commission will hold a public hearing in Washington, DC on April 14, 2022 focused on U.S. trade policy and impact of China's distortions on U.S. jobs, growth, and innovation.

DATES: The hearing is scheduled for Thursday, April 14, 2022 at 9:30 a.m.

ADDRESSES: This hearing will be held with panelists and Commissioners participating in-person or online via videoconference. Members of the audience will be able to view a live webcast via the Commission's website at www.uscc.gov. Also, please check the Commission's website for possible changes to the hearing schedule. Reservations are not required to attend the hearing.

FOR FURTHER INFORMATION CONTACT: Any member of the public seeking further information concerning the hearing should contact Jameson Cunningham, 444 North Capitol Street NW, Suite 602, Washington, DC 20001; telephone: 202-624-1496, or via email at jcunningham@uscc.gov. Reservations are not required to attend the hearing.

ADA Accessibility: For questions about the accessibility of the event or to request an accommodation, please contact Jameson Cunningham via email at jcunningham@uscc.gov. Requests for an accommodation should be made as soon as possible, and at least five business days prior to the event.

SUPPLEMENTARY INFORMATION:

Background: This is the fourth public hearing the Commission will hold during its 2022 report cycle. The hearing will start by examining U.S. policies to address China's nonmarket economy practices, such as subsidies, excess capacity, and market access restrictions. The hearing will then explore U.S. approaches to defend against China's industrial policies related to innovation and technology as well as weak Chinese IP protection and theft. Next, the hearing will assess U.S. opportunities and challenges to regional economic and trade engagement in the Indo-Pacific, contrasted against China's strategy in the region. Finally, the hearing will evaluate the World Trade Organization's ability to address trade distortions resulting from China's policies and practices.

The hearing will be co-chaired by Commissioner Robin Cleveland and Commissioner Michael Wessel. Any interested party may file a written statement by April 14, 2022 by transmitting to the contact above. A portion of the hearing will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: March 24, 2022.
Christopher P. Fioravante,
Director of Operations and Administration, U.S.-China Economic and Security Review Commission.

[FR Doc. 2022-06556 Filed 3-28-22; 8:45 am]

BILLING CODE 1137-00-P